DEPARTMENT OF AGRICULTURE

Forest Service

National Urban and Community Forestry Advisory Council

AGENCY: Forest Service, USDA.

ACTION: Notice of meeting.

SUMMARY: The National Urban and Community Forestry Advisory Council (Council) will meet in Washington, DC The Council is authorized under Section 9 of the Cooperative Forestry Assistance Act, as amended by Title XII, Section 1219 of Public Law 101-624 (the Act) (16 U.S.C. 2105g) and the Federal Advisory Committee Act of 1972 (5 U.S.C. App. II). Additional information concerning the Council, can be found by visiting the Council's Web site at: http://www.fs.fed.us/ucf/nucfac.shtml. The meeting is open to the public.

DATES: The meetings will be held on the following dates:

• Wednesday, January 28, 2015 from 9:00 a.m.-5:00 p.m. (EST)

• Thursday, January 29, 2015 from 9:00 a.m.-12:00 p.m. (EST), or until Council business is completed.

All meetings are subject to cancellation. For updated status of the meetings prior to attendance, please contact the person listed under FOR FURTHER INFORMATION CONTACT.

ADDRESSES: The meeting will be held at the Forest Service Headquarters, Yates Building, 201 14th Street SW., Pinchot Room-Second Floor, Washington, DC 20250. Written comments may be submitted as described under SUPPLEMENTARY INFORMATION. All comments, including names and addresses when provided, are placed in the record and are available for public inspection and copying. The public may inspect comments received at the Forest Service. Visitors are encouraged to call ahead to facilitate entry into the Forest Service building.

FOR FURTHER INFORMATION CONTACT: Nancy Stremple, Executive Staff to the National Urban and Community Forestry Advisory Council, Yates Building (3NW), 201 14th Street SW., Washington, DC 20250; or by cell phone at 202-309-9873. Individuals who use telecommunication devices for the deaf (TDD) may call the Federal Information Relay Service (FIRS) at 1-800-877-8339 between 8:00 a.m. and 8:00 p.m., Eastern Standard Time, Monday through Friday.

SUPPLEMENTARY INFORMATION: The agenda for this meeting is:

(1) Provide orientation for new members,

(2) Meet with the facilitator for the development of the next National Urban Forestry Ten Year Action Plan,

(3) Finalize the work plan action items,

(4) Discuss and approve the 2016 grant categories,

(5) Receive information from members of the urban forestry community of practice,

(6) Receive Forest Service updates on program activities, partnerships, and budgets, and

(7) Discuss the annual accomplishments and recommendations report.

The agenda will include time for people to make oral statements of three minutes or less. Individuals wishing to make an oral statement should request in writing by January 21, 2015 to be scheduled on the agenda. Council discussion is limited to Forest Service staff and Council members; however, persons who wish to bring urban and community forestry matters to the attention of the Council may file written statements with the Council staff before or after the meeting. Written comments and time request for oral comments must be sent to Nancy Stremple, Executive Staff to the National Urban and Community Forestry Advisory Council, Yates Building (3SC), 201 14th Street SW., Washington, DC 20250; by email to nstremple@fs.fed.us, or via facsimile to 202-690-5792. Summary/minutes of the meeting will be posted on the following Web site: http://www.fs.fed.us/ucf/nucfac.shtml within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: December 11, 2014.
Patti Hirami,
Associate Deputy Chief, State and Private Forestry.

[FR Doc. 2014-29671 Filed 12-17-14; 8:45 am]

BILLING CODE 3411-15-P